DEPARTMENT OF STATE

[Public Notice 7470]

Notice of Intent to Establish A Federal Advisory Committee

AGENCY: Department of State.

ACTION: Notice of intent to establish the Foreign Affairs Policy Board (FAPB).

Under the provisions of Public Law 92-463, Federal Advisory Committee Act, notice is hereby given that the Department intends to establish the Foreign Affairs Policy Board. The Department affirms that this advisory committee is necessary and in the public interest.

Nature and Purpose: The Foreign Affairs Policy Board will provide the Secretary of State, the Deputy Secretaries of State, and the Director of Policy Planning, independent, informed advice and opinions concerning matters of U.S. foreign policy. It will review and assess: (1) Global threats and opportunities; (2) trends that implicate core national security interests; (3) tools and capacities of the civilian foreign affairs agencies; (4) priorities and strategic frameworks for U.S. foreign policy; and (5) any other topics raised by the Secretary of State, the Deputy Secretaries of State, or the Director of Policy Planning. It will not perform the function of any existing Department staff or committee.

For further information about this advisory committee, please contact Kelly Wheeler at (202) 647-4697.

Dated: June 1, 2011.
Jake Sullivan,
Director, Policy Planning Staff U.S. Department of State.

[FR Doc. 2011-14173 Filed 6-7-11; 8:45 am]

BILLING CODE 4710-10-P